DEPARTMENT OF ENERGY

Federal Energy Regulatory Commission

[Docket No. CP04-47-000; Docket Nos. CP04-38-000; CP04-39-000; and CP04-40-000]

Sabine Pass LNG, L.P, Cheniere Sabine Pass Pipeline Company; Notice of Availability of the Draft Environmental Impact Statement for the Proposed Sabine Pass LNG and Pipeline Project

August 12, 2004.

The staff of the Federal Energy Regulatory Commission (FERC or Commission) has prepared a draft Environmental Impact Statement (EIS) on the liquefied natural gas (LNG) import terminal and natural gas pipeline facilities in Cameron Parish, Louisiana proposed by Sabine Pass LNG, L.P. and Cheniere Sabine Pass Pipeline Company (collectively referred to as Cheniere Sabine) in the above-referenced dockets.

The draft EIS was prepared to satisfy the requirements of the National Environmental Policy Act (NEPA). The staff concludes that approval of the proposed project with appropriate mitigating measures as recommended, would have limited adverse environmental impact. The draft EIS also evaluates alternatives to the proposal, including system alternatives, alternative sites for the LNG import terminal, and pipeline alternatives.

Cheniere Sabine's proposed facilities would transport an average of 2.6 billion cubic feet per day (Bcfd) of imported natural gas to the U.S. market. In order to provide LNG import, storage, and pipeline transportation services, Cheniere Sabine requests Commission authorization to construct, install, and operate an LNG terminal and natural gas pipeline facilities.

The draft EIS addresses the potential environmental effects of the construction and operation of the following LNG terminal and natural gas pipeline facilities:

• A new marine terminal basin connected to the Sabine Pass Channel that would include a ship maneuvering area and two protected berths to unload up to 300 LNG ships per year with a ship capacity ranging up to 250,000 cubic meters (m³) of LNG;

• Three all-metal, double-walled, single containment, top-entry LNG storage tanks, each with a nominal working volume of approximately 160,000 m³ (1,006,400 barrels) and each with secondary containment dikes to contain 110 percent of the gross tank volume;

• Sixteen high-pressure submerged combustion vaporizers with a capacity of approximately 180 million cubic feet per day, as well as other associated vaporization equipment;

• Instrumentation and safety systems, including hazard detection and fire response systems, ancillary utilities, buildings, and service facilities, including a metering facility;

• Packaged natural gas turbine/generator sets to generate power for the LNG terminal; and

• Approximately 16 miles of 42-inch-diameter natural gas pipeline, two metering stations, and associated pipeline facilities including launcher and receiver facilities.

Comment Procedures and Public Meetings

Any person wishing to comment on the draft EIS may do so. To ensure consideration prior to a Commission decision on the proposal, it is important that we receive your comments before the date specified below. Please carefully follow these instructions to ensure that your comments are received in time and properly recorded:

• Send an original and two copies of your comments to: Magalie R. Salas, Secretary, Federal Energy Regulatory Commission, 888 First St., NE., Room 1A, Washington, DC 20426.

• Reference Docket Nos. CP04-38-000 et al. and CP04-47-000;

• Label one copy of the comments for the attention of Gas Branch 2, PJ11.2; and

• Mail your comments so that they will be received in Washington, DC on or before October 5, 2004.

Please note that we are continuing to experience delays in mail deliveries from the U.S. Postal Service. As a result, we will include all comments that we receive within a reasonable time frame in our environmental analysis of the project. However, the Commission strongly encourages electronic filing of any comments or interventions to this proceeding. See 18 CFR 385.2001(a)(1)(iii) and the instructions on the Commission's Web site at http://www.ferc.gov under the “e-Filing” link and the link to the User's Guide. Before you can file comments you will need to create a free account which can be created online.

In addition to or in lieu of sending written comments, we invite you to attend the public comment meeting we will conduct in the project area. The location and time for this meeting is listed below: September 21, 2004, 7 p.m., Johnsons Bayou Community Center, 5556 Gulf Beach Highway, Johnsons Bayou, LA 70631, Telephone: 337-569-2815.

This meeting will be posted on the Commission's calendar located at http://www.ferc.gov/EventCalendar/EventsList.aspx along with other related information. Interested groups and individuals are encouraged to attend and present oral comments on the draft EIS. Transcripts of the meetings will be prepared.

After these comments are reviewed, any significant new issues are investigated, and modifications are made to the draft EIS, a final EIS will be published and distributed by the staff. The final EIS will contain the staff's responses to timely comments received on the draft EIS.

Comments will be considered by the Commission but will not serve to make the commentor a party to the proceeding. Any person seeking to become a party to the proceeding must file a motion to intervene pursuant to Rule 214 of the Commission's Rules of Practice and Procedures (18 CFR 385.214).

Anyone may intervene in this proceeding based on this draft EIS. You must file your request to intervene as specified above.¹ You do not need intervenor status to have your comments considered.

¹ Interventions may also be filed electronically via the Internet in lieu of paper. See the previous discussion on filing comments electronically.

The draft EIS has been placed in the public files of the FERC and is available for distribution and public inspection at: Federal Energy Regulatory Commission, Public Reference Room, 888 First Street, NE., Room 2A, Washington, DC 20426, (202) 502-8371.

A limited number of copies are available from the Public Reference Room identified above. In addition, copies of the draft EIS have been mailed to federal, state, and local agencies; public interest groups; individuals and affected landowners who requested a copy of the draft EIS; libraries; newspapers; and parties to this proceeding.

Additional information about the project is available from the Commission's Office of External Affairs, at 1-866-208-FERC or on the FERC Internet Web site (http://www.ferc.gov) using the “eLibrary” link. Click on the “eLibrary” link, click on “General Search” and enter the docket number excluding the last three digits in the Docket Number field. Be sure you have selected an appropriate date range. For assistance, with “eLibrary,” the “eLibrary” helpline can be reached at 1-866-208-3676, for TTY, contact (202) 502-8659, or at FERCOnlineSupport@ferc.gov. The “eLibrary” link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/eSubscribenow.htm.

Linda Mitry,
Acting Secretary.

[FR Doc. E4-1856 Filed 8-19-04; 8:45 am]

BILLING CODE 6717-01-P